DEPARTMENT OF HEALTH AND HUMAN SERVICES

Food and Drug Administration

[Docket No. FDA-2013-N-1620]

Agency Information Collection Activities; Announcement of Office of Management and Budget Approval; Request for Information From United States Processors That Export to the European Community

AGENCY: Food and Drug Administration, HHS.

ACTION: Notice.

SUMMARY: The Food and Drug Administration (FDA) is announcing that a collection of information entitled “Request for Information from U.S. Processors that Export to the European Community” has been approved by the Office of Management and Budget (OMB) under the Paperwork Reduction Act of 1995.

FOR FURTHER INFORMATION CONTACT: FDA PRA Staff, Office of Operations, Food and Drug Administration, 8455 Colesville Rd., COLE-14526, Silver Spring, MD 20993-0002, PRAStaff@fda.hhs.gov.

SUPPLEMENTARY INFORMATION: On February 28, 2014, the Agency submitted a proposed collection of information entitled “Request for Information from U.S. Processors that Export to the European Community” to OMB for review and clearance under 44 U.S.C. 3507. An Agency may not conduct or sponsor, and a person is not required to respond to, a collection of information unless it displays a currently valid OMB control number. OMB has now approved the information collection and has assigned OMB control number 0910-0320. The approval expires on May 31, 2017. A copy of the supporting statement for this information collection is available on the Internet at http://www.reginfo.gov/public/do/PRAMain.

Dated: May 27, 2014.
Leslie Kux,
Assistant Commissioner for Policy.

[FR Doc. 2014-12816 Filed 6-2-14; 8:45 am]

BILLING CODE 4160-01-P